NEIGHBORHOOD REINVESTMENT CORPORATION

Sunshine Act Meetings; Regular Board of Directors Meeting

TIME AND DATE: 1:30 p.m., Tuesday, October 30, 2018.

PLACE: NeighborWorks America—Gramlich Boardroom, 999 North Capitol Street NE, Washington DC 20002.

STATUS: Open (with the exception of Executive Session).

MATTERS TO BE CONSIDERED:

The General Counsel of the Corporation has certified that in his opinion, one or more of the exemptions set forth in 5 U.S.C. 552 (b)(2) and (4) permit closure of the following portion(s) of this meeting:

• Report from CEO.

• Internal Audit Report.

Agenda

I. CALL TO ORDER

II. Approval of Minutes

III. Executive Session: Report from CEO

IV. Executive Session: Internal Audit Update

V. FY2019 Risk Assessment & Internal Audit Plan

VI. Internal Audit Reports with Management's Response

VII. Internal Audit Status Reports

VIII. FY19 Corporate Goals

IX. 40th Anniversary Event

X. Board Meeting Yearly Schedule

XI. Action Items for Next 6-9 Months

XII. Management Program Background and Updates

XIII. Adjournment

CONTACT PERSON FOR MORE INFORMATION: Rutledge Simmons, EVP & General Counsel/Secretary, (202) 760-4105; Rsimmons@nw.org.

Rutledge Simmons,
EVP & General Counsel/Corporate Secretary.

[FR Doc. 2018-22741 Filed 10-15-18; 4:15 pm]

BILLING CODE 7570-02-P